DEPARTMENT OF ENERGY

[DOE/EIS-0458]

Notice of Availability of the Final Environmental Impact Statement for a Proposed Federal Loan Guarantee To Support Construction and Start-up of the Topaz Solar Farm, San Luis Obispo County, CA

AGENCY: U.S. Department of Energy.

ACTION: Notice of Availability of the Final Environmental Impact Statement.

SUMMARY: The U.S. Department of Energy (DOE) announces the availability of the Final Environmental Impact Statement for the DOE Loan Guarantee to Royal Bank of Scotland for Construction and Startup of the Topaz Solar Farm, San Luis Obispo County, California (DOE/EIS-0458) (Final EIS). The Final EIS, prepared under the National Environmental Policy Act (NEPA), analyzes the potential environmental impacts of the DOE's proposed action of issuing a Federal loan guarantee to support construction and start-up of the Topaz Solar Farm Project located in San Luis Obispo County, California (Proposed Project). The Proposed Project is a nominal 550-megawatt solar power generating facility based on photovoltaic (PV) technology on approximately 3,500 acres of private land in San Luis Obispo County, California. DOE considered all comments received in preparing the EIS and incorporated both the comments and DOE's responses in the Final EIS.

DATES: DOE will publish a Record of Decision no sooner than 30 days after publication of EPA's Notice of Availability in the Federal Register.

FOR FURTHER INFORMATION CONTACT: To obtain additional information about this EIS, or to receive a copy of the Final EIS, contact Angela Colamaria by telephone: 202-287-5387; toll-free number: 800-832-0885 ext. 75387; or electronic mail: Angela.Colamaria@hq.doe.gov. For general information on the DOE NEPA process, please contact: Ms. Carol M. Borgstrom, Director, Office of NEPA Policy and Compliance (GC-54), U.S. Department of Energy, 1000 Independence Avenue, SW., Washington, DC 20585; telephone: 202-586-4600; facsimile: 202-586-7031; electronic mail: askNEPA@hq.doe.gov; or leave a toll-free message at 800-472-2756.

SUPPLEMENTARY INFORMATION: Title XVII of Energy Policy Act 2005 (EPAct) established a Federal loan guarantee program for eligible energy projects, and was amended by the American Recovery and Reinvestment Act of 2009 to create Section 1705 of Title XVII (42 U.S.C. 16516), authorizing a new program for rapid deployment of renewable energy projects and related manufacturing facilities, electric power transmission projects, and leading edge biofuels projects. The Section 1705 Program is designed to address the current economic conditions of the nation, in part, through financing such projects.

The Royal Bank of Scotland plc, as Lender-Applicant, with Topaz Solar Farms, LLC (Topaz) as the borrower, applied to DOE for a federal loan guarantee under the Solicitation entitled, “Federal Loan Guarantees for Commercial Technology Renewable Energy Generation Projects under the Financial Institution Partnership Program” (Solicitation No. DE-FOA-0000166), issued on October 7, 2009.

The purpose and need for action by DOE is to comply with its mandate under EPAct 2005 by selecting eligible projects that meet the goals of the Section 1705 Program, as summarized above. The EIS informs DOE's decision on whether to issue a loan guarantee to support the Proposed Project. DOE's proposed action is to issue a loan guarantee to support construction and startup of the Topaz Solar Farm (Proposed Project). The Proposed Project would be located in an unincorporated portion of eastern San Luis Obispo County, California, adjacent to Highway 58 and east of Bitterwater Road. Topaz has options to purchase approximately 10,000 acres of land in the project area. The Proposed Project would be developed on approximately 3,500 acres of private land.

The Proposed Project would consist of: a solar field of approximately nine million ground-mounted PV modules, within up to 460 PV arrays, that collect solar radiation to produce electricity; an electrical collection system that converts generated power from direct current (DC) to alternating current (AC) and delivers it to a new Project substation which collects and converts the generated power from 34.5 kV to 230 kV for delivery via a new Pacific Gas and Electric (PG&E) switching station to PG&E's existing Morro Bay-Midway 230-kV transmission line which runs in an east-to-west direction through the site and portions of Kern County; and the aforementioned PG&E switching station that interconnects the Proposed Project to PG&E's existing transmission line. After construction, PG&E would own and operate the switching station. As part of the Proposed Project, Topaz would construct and operate a Monitoring and Maintenance Facility, and may also construct a Solar Energy Learning Center within the Proposed Project's site boundary. The Proposed Project would also include up to 22 miles of on-site access roads as well as leach field and septic systems for the facilities listed above.

Generated electricity would be sold to PG&E under a long-term power purchase agreement. Topaz has interconnection agreements in place for the first 400 MW of Project capacity. The California Independent System Operator has determined that network upgrades would be required to accommodate the Proposed Project's remaining 150 MW, as well as other generation projects in the region. Network upgrades could include the reconductoring of 35 miles of the 230-kV transmission lines between the new PG&E switching station and the Midway Substation. Such upgrades would extend the height of every other existing tower by 20 feet, but would not introduce a new structure.

Alternatives

In determining the range of reasonable alternatives to be considered in the EIS for the Proposed Project, DOE identified the reasonable alternatives that would satisfy the underlying purpose and need for agency action. Rather than being directly responsible for the siting, construction, and operation of respective projects selected in response to solicitations under EPAct 2005, DOE's actions are limited to guaranteeing the debt obligation for the project. Therefore, DOE's overall decision will be to either provide a loan guarantee for the Proposed Project or to decline to provide a loan guarantee (i.e., the No Action Alternative, as discussed below). The potential environmental impacts of a No Action alternative, as well as two project-specific alternatives, are analyzed in the EIS. The project-specific alternatives include alternate configurations for the solar arrays.

Within the Proposed Project site, Topaz identified two Study Areas (Study Area A and Study Area B) that would be suitable for the Proposed Project and that were evaluated in the Draft EIS (Project-Specific Alternative A and Project-Specific Alternative B). In the Final EIS, DOE revised the analysis to include a County-approved project layout located wholly within Project Specific Alternative A (Study Area A) and to identify a Preferred Alternative. Council on Environmental Quality (CEQ) implementing regulations require a lead agency to identify a Preferred Alternative in the Final EIS unless another law prohibits the expression of such a preference (40 CFR 1502.14[e]). DOE's Preferred Alternative is to issue a loan guarantee for Alternative A with County-Approved Project Layout (termed Alternative 3B.1 in the San Luis Obispo County Final EIR and approved by the County of San Luis Obispo Planning through its conditional use permit process). Alternative A with County-Approved Project Layout involves a project layout that is contained within Study Area A. Alternative A with County-Approved Project Layout would involve a solar facility with a footprint of 3,500 acres, approximately 600 acres less than the development site analyzed under Alternative A in the Draft EIS. While the County approved a PV solar facility within the Alternative A footprint, Alternative B is retained for continuity between the Draft and Final EIS.

Under the No Action Alternative, DOE would not provide the loan guarantee to Topaz. Although Topaz may still pursue the Project without the loan guarantee, as defined above, for purposes of the EIS analysis, it is assumed that the No Action Alternative would result in no Project or in a no build scenario.

Floodplain Assessment

In the October 22, 2010 Notice of Intent to Prepare an Environmental Impact Statement (75 FR 65306), DOE provided notice of a proposed DOE action in a floodplain pursuant to DOE Floodplain and Wetland Environmental Review Requirements (10 CFR Part 1022). Overhead electrical lines would need to cross 100-year floodplains (unnamed drainages within the Carrizo Plain, northwest of Soda Lake). Since some of the floodplains on the project site are greater than 200 feet wide and posts are needed every 200 feet to support overhead lines, the installation of posts within the floodplain is anticipated. DOE has prepared a floodplain assessment as required by DOE regulations. The floodplain assessment is incorporated into the Draft EIS and Final EIS, and the Floodplain Statement of Findings will be included in the Record of Decision for the Proposed Project.

Scope of Final EIS and Environmental Review Process

The DOE prepared this Final EIS pursuant to the National Environmental Policy Act of 1969, as amended (NEPA), the CEQ NEPA regulations, and the DOE NEPA implementing procedures. The Final EIS analyzes the environmental consequences that may result from the Proposed Action, including the project-specific alternatives, the Preferred Alternative, and the No Action Alternative. Because the Proposed Project may affect listed species under the Endangered Species Act (ESA), DOE consulted with the U.S. Department of the Interior's Fish and Wildlife Service (USFWS) under Section 7 of the ESA. Consultation with USFWS resulted in a Biological Opinion for the Proposed Project that is included in the Final EIS.

The Proposed Project site would affect waters subject to the jurisdiction of the U.S. Army Corps of Engineers (USACE); therefore the Proposed Project will require a Clean Water Act (CWA) Section 404 Permit. As a result, USACE has participated as a cooperating agency in the preparation of this Final EIS. USACE will issue a separate decision document on the CWA Section 404 Permit for the Proposed Project that will incorporate the environmental analyses from this EIS.

The DOE has used the NEPA public comment process to satisfy the public involvement requirements of Section 106 of the National Historic Preservation Act (16 U.S.C. 470f) as provided for in 36 CFR 800.2(d)(3). DOE invited Federally-recognized American Indian Tribes that have historic interests in the area to also participate in government-to-government consultation regarding the Proposed Project. In addition to these Federally-recognized tribes, the California Native American Heritage Commission provided DOE with a Native American contacts list in the project area. DOE contacted parties on the list to solicit concerns or comments on the Proposed Project. The outcome of Section 106 consultation with Federally-recognized American Indian Tribes and other consulting parties is included in the Final EIS.

Public Comment Period

Copies of the Draft EIS were distributed to Members of Congress; Native American Tribal governments, Federal, State, and local officials; and agencies, organizations and individuals who may be interested or affected by the Proposed Project. The public comment period was open from March 25, 2011 through May 9, 2011, and a public hearing was held in Santa Margarita, CA, on April 13, 2011. DOE considered all comments received during the comment period during the preparation of this Final EIS, and the Final EIS contains revisions and new information based in part on these comments. The comments and DOE's responses to these comments are included in the Final EIS.

Availability of the Final EIS: The Final EIS is available on the Department of Energy's NEPA Web site at http://nepa.energy.gov under “DOE NEPA Documents” and on the Loan Program Office's Web site at http://www.lgprogram.energy.gov/NEPA_EIS.html. Copies of the Final EIS are also available for review at the Simmler Public Library/California Valley Community Service District; 13080 Soda Lake Road; California Valley, CA 93453 and the San Luis Obispo County Department of Planning and Building; 976 Osos St. Room 300; San Luis Obispo, CA 93408.

Issued in Washington, DC on August 9, 2011.
Jonathan M. Silver,
Executive Director, Loan Programs Office.

[FR Doc. 2011-20662 Filed 8-12-11; 8:45 am]

BILLING CODE 6450-01-P